DEPARTMENT OF COMMERCE

Submission for OMB Review; Comment Request

DOC has submitted to the Office of Management and Budget (OMB) for clearance the following proposal for collection of information under the provisions of the Paperwork Reduction Act (44 U.S.C. chapter 35).

Agency: Bureau of Industry and Security.

Title: Miscellaneous Activities.

Form Number(s): Not applicable.

Agency Approval Number: 0694-0102.

Type of Request: Renewal of an existing collection.

Burden: 201 hours.

Number of Respondents: 2.

Average Hours Per Response: 100.5.

Needs and Uses: This information collection activities is comprised of two activities: “Registration Of U.S. Agricultural Commodities For Exemption From Short Supply Limitations On Export”, and “Petitions For The Imposition Of Monitoring Or Controls On Recyclable Metallic materials; Public Hearings.” These activities are statutory in nature and, though they are seldom applied, must remain a part of BIS's information collection budget authorization.

Affected Public: Individuals, businesses or other for-profit and not-for-profit institutions.

Frequency: On occasion.

Respondent's Obligation: Voluntary.

OMB Desk Officer: David Rostker.

Copies of the above information collection proposal can be obtained by calling or writing Diana Hynek, Departmental Paperwork Clearance Officer, (202) 482-0266, Department of Commerce, Room 6613, 14th and Constitution Avenue, NW., Washington, DC 20230. (or via Internet at Dhynek@doc.gov).

Written comments and recommendations for the proposed information collection should be sent within 30 days of publication of this notice to David Rostker, OMB Desk Officer, e-mail address, David_Rostker@omb.eop.gov, or fax number, (202) 395-7285.

Dated: September 22, 2005.
Madeleine Clayton,
Management Analyst, Office of the Chief Information Officer.

[FR Doc. 05-19301 Filed 9-27-05; 8:45 am]

BILLING CODE 3510-JT-P